DEPARTMENT OF THE INTERIOR

Bureau of Land Management

[LLNMA00000 L16400000.PN0000]

Notice of Relocation: Change of Street Address for Albuquerque District and Rio Puerco Field Offices

AGENCY: Bureau of Land Management, Interior.

ACTION: Notice.

SUMMARY: The Bureau of Land Management, Albuquerque District and Rio Puerco Field Offices located at 435 Montaño NE., Albuquerque, New Mexico is relocating to 100 Sun Avenue NE., Suite 330, Albuquerque, New Mexico.

DATES: The Albuquerque District and Rio Puerco Field Offices are scheduled to move June 26, 2015, through June 28, 2015, and will be open for business on Monday, June 29, 2015.

FOR FURTHER INFORMATION CONTACT: Danette Herrera, Administrative Officer, at (505) 761-8952, BLM Albuquerque District Office, Albuquerque, New Mexico 87107. Persons who use a telecommunications device for the deaf (TDD) may call the Federal Information Relay Service (FIRS) at 1-800-877-8339 to contact the above individual during normal business hours. The service is available 24 hours a day, 7 days a week, to leave a message or question with the above individual. You will receive a reply during normal business hours.

SUPPLEMENTARY INFORMATION: The BLM will meet its goals of improving overall efficiency and reducing costs by co-locating with the USDA Forest Service. The main office telephone number will remain (505) 761-8700.

Lonny R. Bagley,
Acting, Associate State Director.

[FR Doc. 2015-14476 Filed 6-11-15; 8:45 am]

BILLING CODE 4310-FB-P